DEPARTMENT OF ENERGY

Federal Energy Regulatory Commission

[Docket No. AD23-9-000]

Reliability Technical Conference; Notice of Technical Conference

Take notice that the Federal Energy Regulatory Commission (Commission) will convene its annual Reliability Technical Conference in the above-referenced proceeding on Thursday, November 9, 2023, from approximately 8:30 a.m. to 5:00 p.m. Eastern time. The conference will include Commissioner-led and staff-led panels. The conference will be held in-person at the Commission's headquarters at 888 First Street NE, Washington, DC 20426 in the Commission Meeting Room.

The purpose of this conference is to discuss policy issues related to the reliability and security of the Bulk-Power System. The conference will also discuss the impact of the Environmental Protection Agency's proposed rule under section 111 of the Clean Air Act on electric reliability.¹

¹ New Source Performance Standards for Greenhouse Gas Emissions from New, Modified, and Reconstructed Fossil Fuel-Fired Electric Generating Units; Emission Guidelines for Greenhouse Gas Emissions from Existing Fossil Fuel-Fired Electric Generating Units; and Repeal of the Affordable Clean Energy Rule, 88 FR 33,240 (proposed May 23, 2023) (to be codified at 40 CFR 60).

The conference will be open for the public to attend, and there is no fee for attendance. Supplemental notices will be issued prior to the conference with further details regarding the agenda, how to register to participate, and the format. Information on this technical conference will also be posted on the Calendar of Events on the Commission's website, www.ferc.gov, prior to the event.

The conference will also be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Michael Gildea at Michael.Gildea@ferc.gov or (202) 502-8420. For information related to logistics, please contact Sarah McKinley at Sarah.Mckinley@ferc.gov or (202) 502-8368.

Dated: August 3, 2023.
Debbie-Anne A. Reese,
Deputy Secretary.

[FR Doc. 2023-17069 Filed 8-8-23; 8:45 am]

BILLING CODE 6717-01-P